DEPARTMENT OF ENERGY

[Dockets No. EA-153-B]

Application To Export Electric Energy; Edison Mission Marketing & Trading, Inc.

AGENCY: Office of Fossil Energy, DOE.

ACTION: Notice of application.

SUMMARY: Edison Mission Marketing & Trading, Inc. (EMMT) has applied to renew the authority to transmit electric energy from the United States to Canada formerly held by Citizens Power Sales pursuant to section 202(e) of the Federal Power Act.

DATES: Comments, protests or requests to intervene must be submitted on or before January 12, 2005.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On October 1, 1997, FE issued Order No. EA-153 authorizing Citizens Power Sales, LLC (Citizens) to transmit electric energy from the United States to Canada as a power marketer. On January 11, 2000, in Order No. EA-153-A, FE renewed Citizens' authorization to export electric energy to Canada for a five year term that will expire on January 11, 2005. On October 26, 2000, Edison Mission Marketing & Trading, Inc. (EMMT) notified FE that Citizens merged with and into EMMT effective September 1, 2000.

On November 17, 2004, EMMT filed an application with FE for renewal of the export authority contained in Order No. EA-153-A for an additional five-year term. EMMT proposes to export electric energy to Canada and to arrange for the delivery of those exports over the international transmission facilities owned by Basin Electric Power Cooperative, Bonneville Power Administration, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, Vermont Electric Company and Vermont Electric Transmission Company.

The construction of each of the international transmission facilities to be utilized by EMMT, as more fully described in the application, has previously been authorized by a Presidential permit issued pursuant to Executive Order 10485, as amended.

Procedural Matters: Any person desiring to become a party to these proceedings or to be heard by filing comments or protests to this application should file a petition to intervene, comment or protest at the address provided above in accordance with §§ 385.211 or 385.214 of the FERC's Rules of Practice and Procedures (18 CFR 385.211, 385.214). Fifteen copies of the petition and protest should be filed with the DOE on or before the dates listed above.

Comments on the EMMT application to export electric energy to Canada should be clearly marked with Docket EA-153-B. Additional copies are to be filed directly with Joseph C. Bell, Jolanta Sterbenz, Geo F. Hobday, Jr., Hogan & Hartson, L.L.P., 555 Thirteenth Street, NW., Washington, DC 20004-1109 and Robert F. Viola, Counsel, Edison Mission Marketing & Trading, Inc., 160 Federal Street, Boston, Massachusetts 02110-1776, Karen A. Bell, Assistant Counsel, Edison Mission Marketing & Trading, Inc., 160 Federal Street, Boston, Massachusetts 02110-1776.

Copies of this application will be made available, upon request, for public inspection and copying at the address provided above or by accessing the Fossil Energy Home Page at http://www.fe.doe.gov. Upon reaching the Fossil Energy Home page, select “Electricity Regulation,” and then “Pending Proceedings” from the options menus.

Issued in Washington, DC, on December 7, 2004.
Anthony J. Como,
Deputy Director, Electric Power Regulation, Office of Fossil Energy.

[FR Doc. 04-27256 Filed 12-10-04; 8:45 am]

BILLING CODE 6450-01-P